DEPARTMENT OF TRANSPORTATION

Federal Railroad Administration

49 CFR Part 236

[Docket No. FRA-2023-0064, Notice No. 2]

RIN 2130-AC95

Positive Train Control Systems

AGENCY: Federal Railroad Administration (FRA), Department of Transportation (DOT).

ACTION: Notice of proposed rulemaking (NPRM); extension of comment period.

SUMMARY: On October 28, 2024, FRA published an NPRM proposing to amend certain regulations governing positive train control (PTC) systems. Through oversight and continued engagement with the industry, FRA has found that its existing PTC regulations do not adequately address temporary situations during which PTC technology is not enabled, including after certain initialization failures or in cases where a PTC system needs to be temporarily disabled to facilitate repair, maintenance, infrastructure upgrades, or capital projects. FRA expects PTC systems to be reliable and robust, further reducing the occurrence of initialization failures and outages. The NPRM proposes to establish strict parameters and operating restrictions under which railroads may continue to operate safely in certain necessary scenarios when PTC technology is temporarily not governing rail operations. By this notice, FRA is extending the NPRM's comment period, which will close on December 27, 2024, by 15 days.

DATES: The comment period for the proposed rule published October 28, 2024, at 89 FR 85462, is extended. Comments should be received on or before January 11, 2025.

ADDRESSES:

Comments: Comments related to Docket No. FRA-2023-0064, Notice No. 1, may be submitted by going to https://www.regulations.gov and following the online instructions for submitting comments.

Instructions: All submissions must include the agency name, docket name, and docket number or Regulatory Identification Number (RIN) for this rulemaking (2130-AC95). Note that all comments received will be posted without change to https://www.regulations.gov, including any personal information provided. Please see the Privacy Act heading in the SUPPLEMENTARY INFORMATION section of this document for Privacy Act information related to any submitted comments or materials.

Docket: For access to the docket to read background documents or comments received, go to https://www.regulations.gov and follow the online instructions for accessing the docket.

FOR FURTHER INFORMATION CONTACT: Gabe Neal, Staff Director, Signal, Train Control, and Crossings Division, telephone: 816-516-7168, email: Gabe.Neal@dot.gov; or Senya Waas, Senior Attorney Adviser, telephone: 202-875-4158, email: Senya.Waas@dot.gov.

SUPPLEMENTARY INFORMATION: In a November 13, 2024, letter, the American Short Line and Regional Railroad Association (ASLRRA) requested a 60-day extension of the NPRM's comment period.¹ ASLRRA stated it needed sufficient time to review the proposed rule and its impact on its member railroads that are directly and indirectly subject to the PTC mandate. In addition, in a November 25, 2024, letter, the Association of American Railroads (AAR) also requested a 60-day extension of the NPRM's comment period, in order for its members to have adequate time to review the proposed rule.

¹ 89 FR 85462 (Oct. 28, 2024).

The comment period for this NPRM is scheduled to close on December 27, 2024. As FRA is granting an extension in response to ASLRRA's and AAR's requests, the comment period is now extended to January 11, 2024, which is a total of 15 days. Although ASLRRA and AAR each requested a 60-day extension, FRA believes that a 15-day extension will provide sufficient time for ASLRRA, AAR, and other interested parties to review the NPRM.

Privacy Act

In accordance with 5 U.S.C. 553(c), DOT solicits comments from the public to better inform its rulemaking process. DOT posts these comments, without edit, to www.regulations.gov, as described in the system of records notice, DOT/ALL-14 FDMS, accessible through www.dot.gov/privacy. To facilitate comment tracking and response, we encourage commenters to provide their name, or the name of their organization; however, submission of names is completely optional. Whether or not commenters identify themselves, all timely comments will be fully considered. If you wish to provide comments containing proprietary or confidential information, please contact the agency for alternate submission instructions.

Authority: 49 U.S.C. 20103, 20107, 20133, 20141, 20302-20303, 20306, 20701-20702, 21301-21302, 21304; 28 U.S.C. 2461, note; and 49 CFR 1.89.

Issued in Washington, DC.
Allison Ishihara Fultz,
Chief Counsel.

[FR Doc. 2024-30594 Filed 12-20-24; 8:45 am]

BILLING CODE 4910-06-P